NATIONAL PRISON RAPE ELIMINATION COMMISSION

Public Hearing

Public Announcement

Pursuant to the Prison Rape Elimination Act of 2003 (Public Law 108-79) [42 U.S.C. Section 15601, et seq.

Agency Holding Meeting: National Prison Rape Elimination Commission.

Date and Time: 9 a.m. on Thursday, March 23, 2006.

Place: 33 Northeast Fourth Street in Miami, Florida.

Status: Open—Public Hearing.

Matters Considered: Federal, State, and local corrections and detention professionals' experience with and management of sexual assaults.

Agency Contact: Richard B. Hoffman, Executive Director, National Prison Rape Elimination Commission, (202) 514-7922.

Dated: February 24, 2006.
Richard B. Hoffman,
Executive Director, National Prison Rape Elimination Commission.

[FR Doc. 06-1926 Filed 3-1-06; 8:45am]

BILLING CODE 4410-18-M